FEDERAL COMMUNICATIONS COMMISSION

47 CFR Part 64

[CC Docket No. 92-105; FCC 00-257]

Require 711 Dialing for Nationwide Access to Telecommunications Relay Services

AGENCY: Federal Communications Commission.

ACTION: Final rule.

SUMMARY: The Federal Communications Commission (the Commission) amends its regulations to require that all providers of telephone service in the United States provide toll-free access to telecommunications relay services (TRS) via the abbreviated dialing code 711. The Commission takes this action to further a mandate of the Americans with Disabilities Act for functionally equivalent use of the telephone network by people with hearing or speech disabilities. 711 dialing must access all types of relay service in accordance with the Commission's minimum service-quality standards for TRS.

DATES: Effective October 11, 2000. Compliance is required by October 1, 2001.

FOR FURTHER INFORMATION CONTACT: Dennis Johnson or Jamal Mazrui of the Network Services Division, Common Carrier Bureau at phone (202) 418-2320 or TTY (202) 418-0484. E-mail inquiries may also be sent to access@fcc.gov, and various information about TRS can be found at the web address http://www.fcc.gov/cib/dro/trs.

SUPPLEMENTARY INFORMATION: This document summarizes the Second Report and Order in a rulemaking proceeding concerned with The Use of N11 Codes and Other Abbreviated Dialing Arrangements. The Commission adopted the order on July 21, 2000 and released it on August 9, 2000. The complete text of this Second Report and Order is available for inspection and copying during normal business hours in the FCC Reference Center, 445 Twelfth Street, SW., Washington, DC The complete text may be purchased from the Commission's copy contractor, International Transcription Service, Inc., 1231 20th Street, N.W., Washington, D.C. 20036. The document is also available via the Internet at http://www.fcc.gov/Bureaus/Common_Carrier/Orders/2000/fcc00257.doc

Synopsis of the Report and Order

1. In this Second Report and Order, we take another significant step toward fulfilling the goals of Title IV of the Americans with Disabilities Act of 1990 (ADA) by requiring the nationwide implementation of access to telecommunications relay services (TRS) for persons with hearing or speech disabilities via the abbreviated dialing code 711. By October 1, 20001, all types of relay service must be available through 711 dialing in accordance with the Commission's mandatory minimum service-quality standards for TRS.

2. The Commission first promulgated rules to implement Section 225 of the ADA in 1991, and telecommunications relay services became available on a uniform, nationwide basis pursuant to those requirements in July 1993.

3. In February 1997, the Commission issued the N11 First Report and Order and Further Notice in CC Docket No. 92-105, 62 FR 8633 (February 26, 1997). Among other things, it directed Bellcore, the North American Numbering Plan (NANP) administrator at that time, to reserve 711 for nationwide access to TRS. The Commission concluded that 711 dialing would facilitate improved access to TRS in furtherance of section 225 and other provisions of the Communications Act of 1934, as amended. In the accompanying Further Notice of Proposed Rulemaking (N11 Further Notice), the Commission sought comment on whether nationwide 711 implementation was technically and economically feasible, whether the 711 number should access all types of relay service, and whether implementation could occur within three years from the date of the N11 Further Notice. In September 1999, the Commission held a public forum on 711 implementation in order to supplement and update the record in this docket with input from consumers, state relay administrators, and industry representatives.

4. The new 711 dialing arrangement will supplement existing systems in most states that require 7 or 10-digit numbers in order to initiate relay calls. TRS users will then be able to initiate a call from any telephone, anywhere in the United States, without having to remember and dial a 7 or 10-digit toll free number, and without having to obtain different numbers to access local TRS providers when traveling from state to state. 711 access will also facilitate callbacks from voice users who may be unfamiliar with relay services and be frustrated when having to place a TRS call.

5. We are satisfied that both switch-based and AIN technologies will deliver 711 access to TRS at acceptable quality levels and comport with mandatory minimum service quality requirements under the Act and our rules. We conclude that it is technically feasible to provide 711 access to TRS using either AIN or switch-based technology, and do not mandate any particular approach for 711 implementation.

6. We conclude that 711 dialing can be implemented so as to provide access to all types of relay service, while still meeting the Commission's minimum service-quality standards for TRS, including the “Speed of Answer” requirement. We still encourage the continuation of alternate, direct access numbers to reach particular types of relay services. This will enable frequent users of specific services, such as text-based TRS, voice carryover, and speech-to-speech relay to maximize call-processing efficiency. We also encourage relay providers to use caller profiling with 711 access, which allows users to designate their preferred type of relay service. This, in turn, speeds call processing by enabling TRS centers to answer calls using the appropriate mode of communication.

7. We find that, based on the record in this proceeding, it is feasible for all telecommunications carriers, including wireline, wireless, and payphone providers, to implement 711 access to TRS in accordance with Commission standards within one year, regardless of whether the carrier deploys switch-based or AIN-based technology.

8. We expect wireless carriers, relay providers, and any other relevant parties to work together to fulfill all of the requirements established in this Order, by the one-year implementation deadline, in addition to fulfilling existing requirements under our TRS rules. We note that states may need to modify their contracts with relay providers to facilitate this arrangement. We encourage the states to do so as expeditiously as possible.

9. We strongly encourage wireless carriers, relay providers, and other relevant parties to work together in an industry forum or other appropriate collaborative process to develop solutions to implement 711 access to TRS in accordance with our rules.

10. If within 4 months of the effective date of this Order, wireless carriers believe that they will not be able to resolve these implementation issues in a timely manner, we urge them, either individually or collectively, to file a report with the Commission stating that their ability to comply with the one-year deadline is in jeopardy. We also encourage relay providers to file a similar report if they deem it necessary.

11. Such a report should contain specific details of any collaborative efforts to date, including a timeline, details of the implementation issues resolved and of outstanding issues or other problems causing the jeopardy, and the names and necessary contact information for the individuals participating in any collaborative efforts. The report should estimate the impact of the problem, including anticipated delay and/or restrictions to market coverage or feature support.

12. We expect that these “jeopardy” reports will form the basis for discussions with the Commission about possible solutions to the outstanding implementation issues. If we do not receive a report of this nature, we will assume that the ability to comply with the one-year timeframe is not in jeopardy. Moreover, as we reminded carriers in the Improved TRS Order, if necessary, the Commission may consider enforcement action, including forfeitures, should carriers fail to meet their obligations regarding access to relay services.

13. We also recognize that companies providing PBX equipment to businesses and organizations will need to program their PBXs to enable 711 dialing to TRS centers from their user locations. Because many individuals work for companies and organizations that utilize PBXs, modifying PBXs to accommodate 711 dialing is essential to ensuring that all Americans have the opportunity to benefit from this abbreviated dialing arrangement.

14. Our rules provide for specific cost recovery mechanisms for costs related to relay providers' provision and maintenance of TRS, and therefore, costs that relay providers incur associated with implementation and maintenance of 711 access to TRS.

15. In contrast, there is no specific cost recovery mechanism for carrier implementation of access to TRS service, whether or not such access is accomplished via 711. Carriers bear and recover their own costs associated with providing access to TRS. Recovery of the costs associated with implementing 711 may not fall disproportionately on TRS users, as all carriers are obligated to ensure that TRS users pay rates no greater than the rates paid for functionally equivalent voice communications services. Carriers may recover education and outreach costs associated with providing access to TRS through 711 in the same manner that they recover other costs associated with implementing 711 access.

16. Wireline carriers may properly include the costs they incur in implementing 711 access to TRS with their joint and common costs and recover those costs from the rates charged for intrastate and interstate services, separated pursuant to the Commission's jurisdictional separation rules. Wireless and other carriers that are neither subject to economic rate regulation nor to the jurisdictional separations rules, may recover their costs of providing access to TRS through 711 in any lawful manner that is consistent with their obligations under 47 U.S.C. 225 (d)(1)(D) and 47 CFR 64.604(c)(4).

17. We find that some of the costs imposed upon relay providers that are associated with the implementation and operation of 711 access to TRS, and education and outreach regarding this service, are likely to be intrastate costs. For costs associated with intrastate minutes of use, we conclude that the states should establish the appropriate cost recovery mechanism as required by section 225(d)(3)(B). Thus, to the extent that the state is certified to provide TRS under section 225 (f) of the Act, the state must permit relay providers that fall under state regulatory jurisdiction to recover intrastate costs related to 711 implementation, including costs associated with education and outreach. We acknowledge that states and relay providers may need to adjust their contracts in order to allow relay providers to recover these costs. We also find, however, that a portion of these costs may be attributable to the provision of interstate TRS.

18. TRS providers shall submit the costs of providing 711 access, including the costs of education and outreach, as part of the annual data report of their total TRS operating expenses, to the interstate TRS Fund Administrator for purposes of computing payment and revenue requirements for the following year. The Fund Administrator must then consider these payment and revenue requirements when establishing the payment formula to compensate TRS providers for reasonable costs associated with 711 access to TRS, including the costs of education and outreach, as well as when determining the contributions to the fund that interstate telecommunications carriers must make.

19. We conclude that the benefits of 711 access to TRS described in this Order are too great and too immediate to warrant a delay that would result from a Commission requirement to implement presubscription or multivendoring at this time.

20. In accordance with our existing rules, we encourage carriers, states, and relay providers to implement education and outreach programs that will increase public awareness and understanding of 711 access to TRS. We encourage carriers, states, and relay providers to be aware of and target specific segments of the market that would benefit from additional information about 711 access.

21. In order to ensure the successful use of 711 access to TRS, we require carriers, in cooperation with relay providers and the states, to engage in on-going and comprehensive education and outreach programs to publicize its availability in a manner reasonably designed to reach the largest number of consumers possible. We recognize that a method that is reasonably designed to reach the largest number of consumers in one state or location may not be equally effective in another location. For that reason, we do not mandate in this Order any specific means of advertising 711 access to TRS. While carriers must continue to utilize bill inserts and provide information in telephone directories pursuant to the Commission's current TRS rules, we also encourage carriers, states, and relay providers to disseminate information through the mainstream media, including newspaper, radio, and television advertisements and articles, which can more effectively reach substantial portions of the American public.

22. Additionally, we encourage the dissemination of information about 711 access through conferences and membership publications of individuals who are deaf, hard of hearing or have speech disabilities, and of senior citizens, to reach significant segments of the population that could benefit from relay services. Furthermore, we suggest that carriers, relay providers, and states should implement an outreach program similar to that used for 911 access to emergency services.

Regulatory Flexibility Act

23. As required by the Regulatory Flexibility Act (RFA), an Initial Regulatory Flexibility Analysis (IRFA) was incorporated into the N11 Further Notice. The Commission sought written public comment on the proposals in the notice, including comment on the IRFA. There were no comments received on the IRFA. This present Final Regulatory Flexibility Analysis (FRFA) conforms to the RFA.

A. Need for, and Objectives of, This Report and Order

24. This rulemaking proceeding was initiated in order to improve the uniformity and efficiency of services provided through telecommunications relay services (TRS) for the benefit of TRS users and members of the general public with whom they communicate. The Commission's goal was to improve the convenience and consistency of dialing for TRS by implementing the 711 code previously reserved for this purpose.

25. In the Notice, the Commission sought public comment on the technical feasibility of implementing 711 access to TRS. The Notice also asked parties: (1) If it would be possible to develop within a reasonable time an N11 “gateway” offering access to multiple TRS providers; (2) whether, with such gateway access, TRS calls would still be answered within the Commission's mandatory minimum standards for TRS answer times; (3) whether such a gateway would be consistent with section 255 of the Telecommunications Act of 1934, as amended by the Telecommunications Act of 1996; and (4) whether any other important disability services could be accessed through the same gateway. The Notice also requested comment from interested parties, particularly TRS providers, about the possibility of providing both voice and text TRS services through the same abbreviated N11 code (711).

26. In this Second Report and Order, we adopt rules that require all carriers to provide 711 access to all types of relay services. We require all wireline carriers, CMRS carriers, and payphone providers to implement 711 dialing on or before October 1, 2001. We also require carriers and relay providers, in cooperation with the states, to engage in on-going and comprehensive education and outreach programs that publicize the availability of 711 access to TRS in a manner reasonably designed to reach the largest number of consumers possible.

27. By requiring uniform, nationwide 711 access to TRS, we further our Congressional mandate under the Americans with Disabilities Act to establish relay services that are functionally equivalent to voice telephone services. We expect that 711 dialing will make TRS easier and more convenient for all Americans. TRS users will be able to initiate a call from any telephone, anywhere in the United States, without having to remember and dial a 7 or 10-digit number, and without having to search for different numbers to access local TRS providers when traveling from state to state. We also expect an increase in the number of first-initiated and return relay calls by individuals without disabilities.

B. Summary of Significant Issues Raised by Public Comments in Response to the IRFA

28. No comments were filed in response to the IRFA.

C. Description and Estimate of the Number of Small Entities to Which Rules Will Apply

29. The RFA directs agencies to provide a description of, and, where feasible, an estimate of the number of small entities that may be affected by the proposed rules, if adopted. The Regulatory Flexibility Act defines the term “small entity” as having the same meaning as the terms “small business,” “small organization,” and “small business concern” under section 3 of the Small Business Act. A small business concern is one which: (1) Is independently owned and operated; (2) is not dominant in its field of operation; and (3) satisfies any additional criteria established by the SBA.

30. TRS Providers. Neither the Commission nor the SBA has developed a definition of small entity specifically applicable to providers of TRS. The closest applicable definition under the SBA rules is for telephone communications companies other than radiotelephone (wireless) companies. The SBA defines such establishments to be small businesses when they have no more than 1,500 employees. According to our most recent data, there are 11 interstate TRS providers, which consist of interexchange carriers, local exchange carriers, state-managed entities, and non-profit organizations. We do not have data specifying the number of these providers that are either dominant in their field of operations, are not independently owned and operated, or have more than 1,500 employees, and we are thus unable at this time to estimate with greater precision the number of TRS providers that would qualify as small business concerns under the SBA's definition. We note, however, that these providers include large interexchange carriers and incumbent local exchange carriers. Consequently, we estimate that there are fewer than 11 small TRS providers that may be affected.

31. The most reliable source of information regarding the total numbers of certain common carrier and related providers nationwide, as well as the number of commercial wireless entities, appears to be data the Commission publishes in its Trends in Telephone Service report. However, in a recent news release, the Commission indicated that there are 4,144 interstate carriers. These carriers include, inter alia, local exchange carriers, wireline carriers and service providers, interexchange carriers, competitive access providers, operator service providers, pay telephone operators, providers of telephone service, providers of telephone exchange service, and resellers.

32. The SBA has defined establishments engaged in providing “Radiotelephone Communications” and “Telephone Communications, Except Radiotelephone” to be small businesses when they have no more than 1,500 employees. Further, we discuss the total estimated number of telephone companies falling within the two categories and the number of small businesses in each, and we then attempt to refine further those estimates to correspond with the categories of telephone companies that are commonly used under our rules.

33. Total Number of Telephone Companies Affected. The U.S. Bureau of the Census (Census Bureau) reports that, at the end of 1992, there were 3,497 firms engaged in providing telephone services, as defined therein, for at least one year. This number contains a variety of different categories of carriers, including local exchange carriers, interexchange carriers, competitive access providers, cellular carriers, mobile service carriers, operator service providers, pay telephone operators, covered specialized mobile radio providers, and resellers. It seems certain that some of these 3,497 telephone service firms may not qualify as small entities or small ILECs because they are not “independently owned and operated.” For example, a PCS provider that is affiliated with an interexchange carrier having more than 1,500 employees would not meet the definition of a small business. It is reasonable to conclude that fewer than 3,497 telephone service firms are small entity telephone service firms or small ILECs that may be affected.

34. We have included small incumbent LECs in this present RFA analysis. As noted above, a “small business” under the RFA is one that, inter alia, meets the pertinent small business size standard (e.g., a telephone communications business having 1,500 or fewer employees), and “is not dominant in its field of operation.” The SBA's Office of Advocacy contends that, for RFA purposes, small incumbent LECs are not dominant in their field of operation because any such dominance is not “national” in scope. We have therefore included small incumbent LECs in this RFA analysis, although we emphasize that this RFA action has no effect on Federal Communications Commission analyses and determinations in other, non-RFA contexts.

35. Local Exchange Carriers. Neither the Commission nor the SBA has developed a definition for small providers of local exchange services (LECs). The closest applicable definition under the SBA rules is for telephone communications companies other than radiotelephone (wireless) companies. According to the most recent Telecommunications Industry Revenue data, 1,348 incumbent carriers reported that they were engaged in the provision of local exchange services. We do not have data specifying the number of these carriers that are either dominant in their field of operations, are not independently owned and operated, or have more than 1,500 employees, and thus are unable at this time to estimate with greater precision the number of LECs that would qualify as small business concerns under the SBA's definition. Consequently, we estimate that fewer than 1,348 providers of local exchange service are small entities or small ILECs that may be affected.

36. Competitive Local Service Providers. This category includes competitive access providers (CAPs), competitive local exchange providers (CLECs), shared tenant service providers, local resellers, and other local service providers. Neither the Commission nor the SBA has developed a definition of small entities specifically applicable to competitive local service providers. The closest applicable definition under the SBA rules is for telephone communications companies other than radiotelephone (wireless) companies. According to the most recent Locator data, 145 carriers reported that they were engaged in the provision of competitive local service. We do not have data specifying the number of these carriers that are not independently owned or operated, and thus are unable at this time to estimate with greater precision the number of competitive local service providers that would qualify as small business concerns under the SBA's definition. Consequently, we estimate that there are fewer than 145 small entity competitive local service providers.

37. Wireless Telephony and Paging and Messaging. Wireless telephony includes cellular, personal communications service (PCS) and specialized mobile radio (SMR) service providers. Neither the Commission nor the SBA has developed a definition of small entities applicable to cellular licensees, or to providers of paging and messaging services. The closest applicable SBA definition for a reseller is a telephone communications company other than radiotelephone (wireless) companies. According to the most recent Locator data, 732 carriers reported that they were engaged in the provision of wireless telephony and 137 companies reported that they were engaged in the provision of paging and messaging service. We do not have data specifying the number of these carriers that are not independently owned or operated, and thus are unable at this time to estimate with greater precision the number that would qualify as small business concerns under the SBA's definition. Consequently, we estimate that fewer than 732 carriers are engaged in the provision of wireless telephony and fewer than 137 companies are engaged in the provision of paging and messaging service.

38. Wireline Carriers and Service Providers. The SBA has developed a definition of small entities for telephone communications companies except radiotelephone (wireless) companies. The Census Bureau reports that there were 2,321 such telephone companies in operation for at least one year at the end of 1992. According to the SBA's definition, a small business telephone company other than a radiotelephone company is one employing no more than 1,500 persons. All but 26 of the 2,321 non-radiotelephone companies listed by the Census Bureau were reported to have fewer than 1,000 employees. Thus, even if all 26 of those companies had more than 1,500 employees, there would still be 2,295 non-radiotelephone companies that might qualify as small entities or small ILECs. We do not have data specifying the number of these carriers that are not independently owned and operated, and thus are unable at this time to estimate with greater precision the number of wireline carriers and service providers that would qualify as small business concerns under the SBA's definition. Consequently, we estimate that fewer than 2,295 small telephone communications companies other than radiotelephone companies are small entities or small ILECs.

39. Pay Telephone Operators. Neither the Commission nor the SBA has developed a definition of small entities specifically applicable to pay telephone operators. The closest applicable definition under SBA rules is for telephone communications companies other than radiotelephone (wireless) companies. According to the most recent Trends in Telephone Service data, 615 carriers reported that they were engaged in the provision of pay telephone services. We do not have data specifying the number of these carriers that are not independently owned and operated or have more than 1,500 employees, and thus are unable at this time to estimate with greater precision the number of pay telephone operators that would qualify as small business concerns under the SBA's definition. Consequently, we estimate that there are less than 615 small entity pay telephone operators.

D. Description of Projected Reporting, Recordkeeping, and Other Compliance Requirements

40. This order mandates that, on or before October 1, 2001, all carriers must obtain the telephone number for the state-certified relay center in each state of operation. This number can be obtained by contacting either the state agency for TRS or the Federal Communications Commission. The cost of obtaining and maintaining this number on file is nominal for all businesses, including small entities. In addition, all state agencies for TRS must accept and address complaints regarding 711 access to TRS. The annual reports of these state agencies to the Federal Communications Commission must include a summary of such complaints. Therefore, the burden of monitoring complaints and compliance falls not upon small entities, but upon the appropriate state agencies.

E. Steps Taken To Minimize Significant Economic Impact on Small Entities and Significant Alternatives Considered

41. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. 5 U.S.C. 603(c).

42. We considered the status quo alternative that is, leaving 711 access to TRS up to voluntary, cooperative efforts among carriers, TRS providers, and state relay administrators. We concluded, however, that uniform, nationwide 711 access to TRS would not occur without a Commission mandate, and without such uniformity, the great benefits of 711 access to TRS would be thwarted. We considered whether to permit compliance exemptions or time extensions for small carriers. Given the Congressional mandate that all carriers facilitate TRS that is “functionally equivalent” to voice transmission services, the burden would be especially high to justify waivers in 711 implementation. Since the record in this docket has shown the economic and technical feasibility of implementing 711 access to TRS by all carriers within a six-month period, we concluded that a year is ample time for all carriers to comply with this Order, including those small entities who might be affected by these new rules.

43. This order focuses on performance not design criteria to achieve 711 access to TRS. We do not require any particular network technology for 711 implementation. We anticipate that larger carriers with AIN technology will use that approach, whereas smaller carriers without it will use a switch-based approach. This latter approach was estimated to require 1.5 labor hours to reconfigure each switch, a cost we consider to be affordable over the course of a year, during which time other switch maintenance would probably occur. We expect that small payphone providers are likely to pass the 711 code to the local switch for translation, rather than making the translation in each of their payphones, thus assuring the affordability of 711 implementation to them.

F. Report to Congress

44. The Commission will send a copy of this Report and Order, including this FRFA, in a report to be sent to Congress pursuant to the SBREFA. In addition, the Commission will send a copy of this Report and Order, including this FRFA, to the Chief Counsel for Advocacy of the Small Business Administration. A copy of this Report and Order and FRFA (or summaries thereof) will also be published in the Federal Register.

Final Paperwork Reduction Act Analysis

45. The Notice did not propose changes to the Commission's information collection requirements, and therefore, an initial paperwork reduction analysis was not required by the Paperwork Reduction Act of 1995. The Commission certifies that no information collection changes are imposed by the rules adopted in this order. The action contained herein has been analyzed with respect to the Paperwork Reduction Act of 1995 and found to impose no new or modified reporting and/or record-keeping requirements or burdens on the public.

Ordering Clauses

46. Accordingly, pursuant to authority found in sections 1, 4(i) and 4(j), 201-205, 218, 225, and 251(e)(1) of the Communications Act as amended, 47 U.S.C. Sections 151, 154(i), 154(j), 201-205, 218, 225, and 251(e)(1) this Report and Order Is Adopted, and Part 64 of the Commission's rules Are Amended as set forth in the rule changes.

47. Each common carrier providing telephone voice transmission services shall provide, not later than October 1, 2001, access via the 711 dialing code to all relay services as a toll free call.

48. The amendments to §§ 64.601 through 64.604 of the Commission's rules as set forth in the rule changes are Adopted, effective October 11, 2000. The action contained herein has been analyzed with respect to the Paperwork Reduction Act of 1995 and found to impose no new or modified reporting and/or record-keeping requirements or burdens on the public.

49. The Commission's Consumer Information Bureau, Reference Information Center, Shall Send a copy of this Report and Order, including the Final Regulatory Flexibility Analysis, to the Chief Counsel for Advocacy of the Small Business Administration.

50. Pursuant to sections 1, 4(i) and 4(j), 201-205, 218, 225, and 251(e)(1) of the Communications Act as amended, 47 U.S.C. sections 151, 154(i), 154(j), 201-205, 218, 225, and 251(e)(1) this Report and Order is adopted.

List of Subjects in 47 CFR Part 64

Communications common carriers, Individuals with disabilities, Relay service, Telecommunications, Telephone.

Federal Communications Commission.
Magalie Roman Salas,
Secretary.

Rule Changes

For the reasons set forth in the preamble, amend part 64 of title 47 of the Code of Federal Regulations as follows:

PART 64—MISCELLANEOUS RULES RELATING TO COMMON CARRIERS

1. The authority citation for part 64 is revised to read as follows:

Authority: 47 U.S.C. 154, 47 U.S.C. 225, 47 U.S.C. 251(e)(1).

2. In § 64.601, paragraphs (1) through (9) are redesignated as paragraphs (2) through (10), and a new paragraph (1) is added to read as follows:

§ 64.601 Definitions.

(1) 711. The abbreviated dialing code for accessing all types of relay services anywhere in the United States.

* * * * *

3. In § 64.603, the undesignated introductory text is revised to read as follows:

§ 64.603 Provision of services.

Each common carrier providing telephone voice transmission services shall provide, not later than July 26, 1993, in compliance with the regulations prescribed herein, throughout the area in which it offers services, telecommunications relay services, individually, through designees, through a competitively selected vendor, or in concert with other carriers. Speech-to-speech relay service and interstate Spanish language relay service shall be provided by March 1, 2001. In addition, each common carrier providing telephone voice transmission services shall provide, not later than October 1, 2001, access via the 711 dialing code to all relay services as a toll free call. A common carrier shall be considered to be in compliance with these regulations:

* * * * *

4. In § 64.604, add the following sentence to the end of paragraph (c)(3) to read as follows:

§ 64.604 Mandatory minimum standards.

* * * * *

(c) * * *

(3) * * * In addition, each common carrier providing telephone voice transmission services shall conduct, not later than October 1, 2001, ongoing education and outreach programs that publicize the availability of 711 access to TRS in a manner reasonably designed to reach the largest number of consumers possible.

* * * * *

[FR Doc. 00-23156 Filed 9-8-00; 8:45 am]

BILLING CODE 6712-01-P